DEPARTMENT OF HEALTH AND HUMAN SERVICES

Substance Abuse and Mental Health Services Administration (SAMHSA)

Advisory Committee for Women's Services (ACWS); Notice of Meeting

Pursuant to Public Law 92-463, notice is hereby given of a meeting of the Substance Abuse and Mental Health Services Administration's (SAMHSA) Advisory Committee for Women's Services (ACWS) on February 1, 2017.

The meeting will include discussions on the National Institutes of Health (NIH) women and girls research agendas; a Legislative update and an overview of the Cures Act; an overview of the Surgeon General's Report; a presentation on physical health/behavioral health integration activities; and a conversation with the Deputy Assistant Secretary for Mental Health and Substance Use.

The meeting is open to the public and will be held at SAMHSA, 5600 Fishers Lane, Rockville, MD 20857, in Conference Room 5N76. Attendance by the public will be limited to space available. Interested persons may present data, information, or views, orally or in writing, on issues pending before the committee. Written submissions should be forwarded to the contact person (below) by January 18, 2017. Oral presentations from the public will be scheduled at the conclusion of the meeting. Individuals interested in making oral presentations are encouraged to notify the contact person on or before January 18, 2017. Five minutes will be allotted for each presentation.

The meeting may be accesed via telephone. To attend on site, obtain the call-in number and access code, submit written or brief oral comments, or request special accommodations for persons with disabilities, please register on-line at http://nac.samhsa.gov/Registration/meetingsRegistration.aspx, or communicate with SAMHSA's Designated Federal Officer, Ms. Nadine Benton (see contact information below).

Substantive meeting information and a roster of Committee members may be obtained either by accessing the SAMHSA Committees' Web https://www.samhsa.gov/about-us/advisory-councils/meetings, or by contacting Ms. Benton.

Committee Name: Substance Abuse and Mental Health Services Administration Advisory Committee for Women's Services (ACWS).

Date/Time/Type: Wednesday, February 1, 2017, from: 9:00 a.m. to 4:45 p.m. EDT, OPEN.

Place: SAMHSA, 5600 Fishers Lane, Conference Room 5N76, Rockville, Maryland 20857.

Contact: Nadine Benton, Designated Federal Official, SAMHSA's Advisory Committee for Women's Services, 5600 Fishers Lane, Rockville, MD 20857, Telephone: (240) 276-0127, Fax: (240) 276-2252, Email: nadine.benton@samhsa.hhs.gov.

CDR. Carlos Castillo,
Committee Management Officer, Substance Abuse and Mental Health, Services Administration.

[FR Doc. 2017-00520 Filed 1-11-17; 8:45 am]

BILLING CODE 4162-20-P